NATIONAL SCIENCE FOUNDATION

Request for Information on the Development of an Artificial Intelligence (AI) Action Plan

AGENCY: Networking and Information Technology Research and Development (NITRD) National Coordination Office (NCO), National Science Foundation.

ACTION: Request for information.

SUMMARY: On behalf of the Office of Science and Technology Policy (OSTP), the NITRD NCO requests input from all interested parties on the Development of an Artificial Intelligence (AI) Action Plan (“Plan”). This Plan, as directed by a Presidential Executive Order on January 23, 2025, will define the priority policy actions needed to sustain and enhance America's AI dominance, and to ensure that unnecessarily burdensome requirements do not hamper private sector AI innovation. Through this Request for Information (RFI), OSTP and NITRD NCO seek input from the public, including from academia, industry groups, private sector organizations, state, local, and tribal governments, and any other interested parties, on priority actions that should be included in the Plan.

DATES: Interested persons are invited to submit comments on or before 11:59 p.m. (ET) on March 15, 2025.

ADDRESSES: Comments submitted in response to this RFI may be sent by any of the following methods:

• Email: ostp-ai-rfi@nitrd.gov; Email submissions should be machine-readable and not be copy-protected. Submissions should include “AI Action Plan” in the subject line of the message.

• Mail: AI Action Plan Attn: Faisal D'Souza, NCO, 2415 Eisenhower Avenue, Alexandria, VA 22314, USA. Telephone: 202-459-9674.

Instructions: Response to this RFI is voluntary. Each individual or institution is requested to submit only one response. Submissions must not exceed 15 pages in 12 point or larger font, with a page number provided on each page. Responses must include the name of the person(s) or organization(s) filing the comment and the following statement: “This document is approved for public dissemination. The document contains no business-proprietary or confidential information. Document contents may be reused by the government in developing the AI Action Plan and associated documents without attribution.” Responses to this RFI are subject to release under the Freedom of Information Act and may be posted online at https://www.nitrd.gov/. Therefore, we request that no business proprietary information, copyrighted information, or sensitive personally identifiable information be submitted as part of your response to this RFI.

In accordance with FAR 15.202(3), responses to this notice are not offers and cannot be accepted by the Government to form a binding contract. Responders are solely responsible for all expenses associated with responding to this RFI.

FOR FURTHER INFORMATION CONTACT: Faisal D'Souza at ostp-ai-rfi@nitrd.gov or (202) 459-9674. Individuals who use a telecommunications device for the deaf (TDD) may call the Federal Information Relay Service (FIRS) at 1-800-877-8339 between 8 a.m. and 8 p.m., Eastern time, Monday through Friday, except for U.S. Federal Government holidays.

SUPPLEMENTARY INFORMATION: On January 23, 2025, President Trump signed Executive Order 14179 (Removing Barriers to American Leadership in Artificial Intelligence) to establish U.S. policy for sustaining and enhancing America's AI dominance in order to promote human flourishing, economic competitiveness, and national security. This Order directs the development of an AI Action Plan to advance America's AI leadership, in a process led by the Assistant to the President for Science and Technology, the White House AI and Crypto Czar, and the National Security Advisor.

This Order follows the President's January 20, 2025, Executive Order 14148, revocation of the Biden-Harris AI Executive Order 14110 of October 30, 2023 (Safe, Secure, and Trustworthy Development and Use of Artificial Intelligence), which hampered the private sector's ability to innovate in AI by imposing burdensome government requirements restricting private sector AI development and deployment. The Trump Administration recognizes that with the right government policies, the United States can solidify its position as the leader in AI and secure a brighter future for all Americans.

OSTP seeks input on the highest priority policy actions that should be in the new AI Action Plan. Responses can address any relevant AI policy topic, including but not limited to: hardware and chips, data centers, energy consumption and efficiency, model development, open source development, application and use (either in the private sector or by government), explainability and assurance of AI model outputs, cybersecurity, data privacy and security throughout the lifecycle of AI system development and deployment (to include security against AI model attacks), risks, regulation and governance, technical and safety standards, national security and defense, research and development, education and workforce, innovation and competition, intellectual property, procurement, international collaboration, and export controls. Respondents are encouraged to suggest concrete AI policy actions needed to address the topics raised.

Comments received will be taken into consideration in the development of the AI Action Plan.

References

1. 90 FR 8741 (January 23, 2025), Removing Barriers to American Leadership in Artificial Intelligence, https://www.whitehouse.gov/presidential-actions/2025/01/removing-barriers-to-american-leadership-in-artificial-intelligence/.

2. 90 FR 8237 (January 20, 2025), Initial Recissions of Harmful Executive Orders and Actions, https://www.federalregister.gov/documents/2025/01/28/2025-01901/initial-rescissions-of-harmful-executive-orders-and-actions.

(Authority: 42 U.S.C. 1861, et seq.)

Submitted by the National Science Foundation in support of the Networking and Information Technology Research and Development (NITRD) National Coordination Office (NCO) on February 03, 2025.

Suzanne H. Plimpton,
Reports Clearance Officer, National Science Foundation.

[FR Doc. 2025-02305 Filed 2-5-25; 8:45 am]

BILLING CODE 7555-01-P